FEDERAL COMMUNICATIONS COMMISSION

47 CFR Part 27

[WT Docket Nos. 03-66; 03-67; 02-68; IB Docket No. 02-364; ET Docket No. 00-258]

Small Business Size Standards for the Broadband Radio Service in the 2495-2690 MHz Band

AGENCY: Federal Communications Commission.

ACTION: Final rule; notification of Small Business Administration approval.

SUMMARY: This document announces that the U.S. Small Business Administration (SBA) has approved the small business size standards adopted by the Commission for the Broadband Radio Service (BRS) in the 2495-2690 MHz band.

DATES: This announcement is made as of April 27, 2009.

FOR FURTHER INFORMATION CONTACT: Gary D. Michaels, Auctions and Spectrum Access Division, Wireless Telecommunications Bureau, (202) 418-0660.

SUPPLEMENTARY INFORMATION: 1. Pursuant to SBA regulations, the Commission consulted with the SBA on March 7, 2003, and June 29, 2004, regarding small business size standards under which certain small businesses would be eligible for bidding credits in any auction of BRS licenses in the 2495-2650 MHz band and Educational Broadband Service (EBS) licenses in the 2500-2690 MHz band. Both the March 7, 2003, and June 29, 2004 consultation letters proposed the following small business definitions: “Small business”—an entity with average annual gross revenues for the preceding three years not exceeding $40 million; “Very small business”—an entity with average annual gross revenues for the preceding three years not exceeding $15 million; and “Entrepreneur”—an entity with average gross revenues not exceeding $3 million for the preceding three years. The SBA responded to the Commission on July 22, 2004, replying to both of the Commission's requests and stating that the contemplated BRS and EBS size standards appeared reasonable. The Commission subsequently proposed those same small business size standards for BRS and EBS in the BRS/EBS Further Notice of Proposed Rulemaking, FCC 04-135, released on July 29, 2004, 69 FR 72048, December 10, 2004. The Commission received no comments from the public regarding the proposed size standards.

2. On March 20, 2008, the Commission released the Big LEO Third Order on Reconsideration and AWS Sixth Memorandum Opinion and Order and BRS/EBS Fourth Memorandum Opinion and Order and Declaratory Ruling, FCC 08-83, 73 FR 26032, May 8, 2008 (“BRS/EBS 4th MO&O”), in which it adopted the following small business definitions for BRS in the 2496-2690 MHz band: (1) Small business—An entity with average gross revenues for the preceding three years not exceeding $40 million; (2) Very small business—An entity with average annual gross revenues for the preceding three years not exceeding $15 million; and (3) Entrepreneur—An entity with average gross revenues not exceeding $3 million for the preceding three years. Under these definitions, the Commission would provide small businesses with a bidding credit of 15 percent, very small businesses with a bidding credit of 25 percent, and entrepreneurs with a bidding credit of 35 percent.

3. On May 6, 2008, prior to publication of a summary of the BRS/EBS 4th MO&O in the Federal Register, the Commission requested the SBA's approval of the final rule adopting small business size standards for the BRS.

4. By letter dated January 22, 2009, the SBA approved the Commission's final rule adopting small business size standards for BRS subject to republication of the size standards in the Federal Register.

5. This notice satisfies the SBA's condition of approval as stated in the SBA's January 22, 2009 letter.

Federal Communications Commission.
Gary D. Michaels,
Deputy Chief, Auctions and Spectrum Access Division, WTB.

[FR Doc. E9-9463 Filed 4-24-09; 8:45 am]

BILLING CODE 6712-01-P